DEPARTMENT OF COMMERCE

International Trade Administration

[A-570-881]

Malleable Cast Iron Pipe Fittings From the People's Republic of China: Continuation of Antidumping Duty Order

AGENCY: Enforcement and Compliance, International Trade Administration, Department of Commerce.

SUMMARY: As a result of the determinations by the Department of Commerce (Commerce) and the International Trade Commission (ITC) that revocation of the antidumping duty (AD) order on malleable cast iron pipe fittings from the People's Republic of China (China) would be likely to lead to continuation or recurrence of dumping and of material injury to an industry in the United States, Commerce is publishing this notice of continuation of the AD order.

DATES: Applicable December 4, 2019.

FOR FURTHER INFORMATION CONTACT: Laura Griffith or Brendan Quinn, AD/CVD Operations, Office III, Enforcement and Compliance, International Trade Administration, U.S. Department of Commerce, 1401 Constitution Avenue NW, Washington, DC 20230; telephone: (202) 482-6430 or (202) 482-5848, respectively.

SUPPLEMENTARY INFORMATION: On July 1, 2019, Commerce published the notice of initiation of the third sunset review of the AD Order ¹ on malleable cast iron pipe fittings from China, pursuant to section 751(c) of the Tariff Act of 1930, as amended (the Act).² Commerce conducted this sunset review on an expedited basis, pursuant to section 751(c)(3)(B) of the Act and 19 CFR 351.218(e)(1)(ii)(C)(2), because it received a complete timely and adequate response from domestic interested parties ³ but no substantive responses from respondent interested parties. As a result of its review, Commerce determined that revocation of the Order would likely lead to a continuation or recurrence of dumping. Commerce also notified the ITC of the magnitude of the dumping margins likely to prevail should the Order be revoked.⁴

¹ See Antidumping Duty Order: Certain Malleable Iron Pipe Fittings from the People's Republic of China, 68 FR 69376 (December 12, 2003) (Order).

² See Initiation of Five-Year (Sunset) Reviews, 84 FR 31304 (July 1, 2019).

³ See Domestic Interested Parties' Letters, “Malleable Cast Iron Pipe Fittings from China, Third Sunset Review: Notice of Intent to Participate,” dated July 9, 2019; and “Malleable Cast Iron Pipe Fittings from China, Third Sunset Review: Substantive Response to Notice of Initiation,” dated July 31, 2019.

⁴ See Certain Malleable Cast Iron Pipe Fittings from the People's Republic of China: Final Results of Expedited Third Sunset Review of Antidumping Duty Order, 84 FR 58686 (November 1, 2019).

On November 25, 2019, the ITC published its determination, pursuant to section 751(c) of the Act, that revocation of the existing AD order on malleable cast iron pipe fittings from China would be likely to lead to a continuation or recurrence of material injury to an industry in the United States within a reasonably foreseeable time.⁵

⁵ See Malleable Cast Iron Pipe Fittings from China, 84 FR 64921 (November 25, 2019); see also USITC Publication 4993, November 2019 entitled Malleable Iron Pipe Fittings from China (Inv. No. 731-TA-1021 (Third Review)).

Scope of the Order

The products covered by the Order are certain malleable iron pipe fittings, cast, other than grooved fittings, from the People's Republic of China. The merchandise is currently classifiable under item numbers 7307.19.30.60, 7307.19.30.85, 7307.19.90.30, 7307.19.90.60, 7307.19.90.80, and 7326.90.86.88 of the Harmonized Tariff Schedule of the United States (HTSUS). Excluded from the scope of this order are metal compression couplings, which are imported under HTSUS number 7307.19.90.80. A metal compression coupling consists of a coupling body, two gaskets, and two compression nuts. These products range in diameter from ½ inch to 2 inches and are carried only in galvanized finish. Although HTSUS subheadings are provided for convenience and customs purposes, Commerce's written description of the scope of this proceeding is dispositive.

Continuation of the Order

As a result of the determinations by Commerce and the ITC that revocation of the AD Order on malleable cast iron pipe fittings would be likely to lead to a continuation or recurrence of dumping, and material injury to an industry in the United States, pursuant to sections 751(c) and 751(d)(2) of the Act, Commerce hereby orders the continuation of the AD Order on malleable cast iron pipe fittings from China. U.S. Customs and Border Protection will continue to collect cash deposits of estimated antidumping duties at the rates in effect at the time of entry for all imports of subject merchandise. The effective date of the continuation of the order will be the date of publication in the Federal Register of this notice of continuation. Pursuant to section 751(c)(2) of the Act and 19 CFR 351.218(c)(2), Commerce intends to initiate the next sunset review of the Order not later than 30 days prior to the fifth anniversary of the effective date of this continuation.

Notification to Interested Parties

This five-year sunset review and this notice are in accordance with section 751(c) of the Act and published pursuant to section 777(i)(1) of the Act and 19 CFR 351.218(f)(4).

Dated: November 25, 2019.
Jeffrey I. Kessler,
Assistant Secretary for Enforcement and Compliance.

[FR Doc. 2019-26216 Filed 12-3-19; 8:45 am]

BILLING CODE 3510-DS-P